DEPARTMENT OF LABOR

Employment and Training Administration

[TA-W-38,056]

Beaumont Neckwear, Inc., New York, New York; Notice of Termination of Investigation

Pursuant to section 221 of the Trade Act of 1974, an investigation was initiated on September 5, 2000 in response to a worker petition which was filed on behalf of workers at Beaumont Neckwear, Incorporated, New York, New York.

A petitioner was separated from the subject firm more than a year prior to the date of the petition (August 20, 1999). Section 223(b)(1) of the Trade Act of 1974 specifies that no certification may apply to any worker whose last separation occurred more than a year before the date of the petition. Consequently, further investigation in this case would serve no purpose, and the investigation has been terminated.

Signed at Washington, DC, this 20th day of September, 2000.
Edward A. Tomchick,
Director, Office of Trade Adjustment Assistance.

[FR Doc. 00-25061 Filed 9-28-00; 8:45 am]

BILLING CODE 4510-30-M